FEDERAL COMMUNICATIONS COMMISSION

[OIA Docket No. 24-30; DA 24-1242; FR ID 268497]

Meeting of the 2027 World Radiocommunication Conference Advisory Committee

AGENCY: Federal Communications Commission.

ACTION: Notice.

SUMMARY: This notice advises interested persons that Informal Working Group 1 (IWG-1), Informal Working Group 2 (IWG-2,) Informal Working Group 3 (IWG-3,) and Informal Working Group 4 (IWG-4) of the 2027 World Radiocommunication Conference Advisory Committee (WRC-27 Advisory Committee) have scheduled meetings as set forth below. The meetings are open to the public.

DATES:

14 January 2025 IWG-3 and IWG-4

15 January 2025 IWG-1 and IWG-2

28 January 2025 IWG-3 and IWG-4

29 January 2025 IWG-1 and IWG-2

18 February 2025 IWG-3 and IWG-4

26 February 2025 IWG-1 and IWG-2

04 March 2025 IWG-3 and IWG-4

12 March 2025 IWG-1 and IWG-2

18 March 2025 IWG-3 and IWG-4

25 March 2025 IWG-3 and IWG-4

26 March 2025 IWG-1 and IWG-2

ADDRESSES: The meetings will be held virtually.

FOR FURTHER INFORMATION CONTACT: Gregory Baker, Designated Federal Official, World Radiocommunication Conference Advisory Committee, FCC Office of International Affairs, Global Strategy and Negotiation Division, at Gregory.Baker@fcc.gov, (202) 919-0758 or WRC-27@fcc.gov.

SUPPLEMENTARY INFORMATION: The FCC established the Advisory Committee to provide advice, technical support and recommendations relating to the preparation of United States proposals and positions for the 2027 World Radiocommunication Conference (WRC-27).

In accordance with the Federal Advisory Committee Act, Public Law 92-463, as amended, this notice advises interested persons of the IWG-1, IWG-2, IWG-3 and IWG-4 of the WRC-27 Advisory Committee scheduled meetings. The Commission's WRC-27 website (www.fcc.gov/wrc-27) contains the latest information on all scheduled meetings, meeting agendas, and WRC-27 Advisory Committee matters.

Below is additional IWG meeting information:

WRC-27 Advisory Committee

Schedule of Meetings of Informal Working Groups 1, 2, 3 and 4

Informal Working Group 1: Maritime, Aeronautical and Radar Services

Chair—Kim Kolb, kim.1.kolb@boeing.com (703) 220-2438

Vice Chair—Nicholas Shrout, njs@asri.aero (443) 951-0335

FCC Representatives: Louis Bell, louis.bell@fcc.gov, telephone: (202) 418-1641; Allen Yang, allen.yang@fcc.gov, telephone: (202) 418-0738; Dante Ibarra, dante.ibarra@fcc.gov, telephone: (202) 418-0610; Gregory Baker, Gregory.Baker@fcc.gov, (202) 919-0758

IWG-1—Meetings

Dates: January 15, 2025; January 29, 2025; February 26, 2025; March 12, 2025; and March 26, 2025

Time: 11:00 a.m. ET

Join ZoomGov Meeting: https://fcc-gov.zoomgov.com/j/1600529540?pwd=KJkOIAlvxMhKUuqmMw2WJb0b6omJ16.1.

Meeting ID: 160 052 9540

Passcode: 064497

One tap mobile: +16692545252,, 1600529540#,,,,*064497# US (San Jose)

Informal Working Group 2: Mobile and Fixed Services

Chair—Daudeline Meme, daudeline.meme@verizon.com, (202) 253-8362

Vice Chair—Reza Arefi, rezaa@apple.com, (202) 235-7298

FCC Representatives: Louis Bell, louis.bell@fcc.gov, telephone: (202) 418-1641; Dante Ibarra, dante.ibarra@fcc.gov, telephone: (202) 418-0610; Gregory Baker, Gregory.Baker@fcc.gov, (202) 919-0758

IWG-2—Meetings

Dates: January 15, 2025; January 29, 2025; February 26, 2025; March 12, 2025; and March 26 2025

Time: 2:00 p.m. ET

Join ZoomGov Meeting: https://fcc-gov.zoomgov.com/j/1600529540?pwd=KJkOIAlvxMhKUuqmMw2WJb0b6omJ16.1

Meeting ID: 160 052 9540

Passcode: 064497

One tap mobile: +16692545252,, 1600529540#,,,,*064497# US (San Jose)

Informal Working Group 3: Fixed-Satellite Service and Regulatory Matters

Chair—Alex Epshteyn, epshteyn@amazon.com, (703) 963-6136

Vice Chair—Ryan Henry, ryan.henry@ses.com, (202) 878-9360

FCC Representatives: Clay DeCell, clay.decell@fcc.gov, telephone: (202) 418-0803; Kathyrn Medley, kathyrn.medley@fcc.gov, telephone: (202) 418-1211; Eric Grodsky, eric.grodsky@fcc.gov, telephone: (202) 418-0563; Dante Ibarra, dante.ibarra@fcc.gov, telephone: (202) 418-0610; Gregory Baker, Gregory.Baker@fcc.gov, (202) 919-0758

IWG-3—Meetings

Dates: January 14, 2025; January 28, 2025; February 18, 2025; March 04, 2025; March 18, 2025; and March 25 2025

Time: 2:00 p.m. ET

Join ZoomGov Meeting: https://fcc-gov.zoomgov.com/j/1609262841?pwd=J36aWoQ62Dv29yaqE2tivXXXWh5sqb.1

Meeting ID: 160 926 2841

Passcode: 391180

One tap mobile: +16692545252,, 1609262841#,,,,*391180# US (San Jose)

Informal Working Group 4: Mobile Satellite and Space Science Services

Chair—Damon Ladson dladson@hwglaw.com, (202) 730-1315

Vice Chair—George John, george.john@hoganlovells.com, (202) 673-6989

FCC Representatives: Dante Ibarra, dante.ibarra@fcc.gov, telephone: (202) 418-0610; Clay DeCell, clay.decell@fcc.gov, telephone: (202) 418-0803; Gregory Baker, Gregory.Baker@fcc.gov, (202) 919-0758

IWG-4—Meetings

Dates: January 14, 2025; January 28, 2025; February 18 2025; March 4, 2025; March 18, 2025; and March 25 2025

Time: 11:00 a.m. ET

Join ZoomGov Meeting: https://fcc-gov.zoomgov.com/j/1609262841?pwd=J36aWoQ62Dv29yaqE2tivXXXWh5sqb.1

Meeting ID: 160 926 2841

Passcode: 391180

One tap mobile: +16692545252,, 1609262841#,,,,*391180# US (San Jose)

Federal Communications Commission.
Nese Guendelsberger,
Deputy Office Chief, Office of International Affairs.

[FR Doc. 2024-30391 Filed 12-19-24; 8:45 am]

BILLING CODE 6712-01-P